DEPARTMENT OF LABOR

Employment and Training Administration

Comment Request for Information Collection for Post Enrollment Data Collection of Job Corps Participants, Revision With Changes

AGENCY: Employment and Training Administration (ETA), Labor.

ACTION: Notice

SUMMARY: The Department of Labor (Department), as part of its continuing effort to reduce paperwork and respondent burden, conducts a preclearance consultation program to provide the public with an opportunity to comment on proposed revisions to the Post Enrollment Data Collection System (PEDCS) by the Office of Job Corps/ETA in accordance with the Paperwork Reduction Act of 1995 [44 U.S.C. 3506(c)(2)(A)] (PRA).

Job Corps is revising the data collection system for post enrollment student outcomes to comply with the reporting provisions of the Workforce Innovation and Opportunity Act (WIOA). Currently, Job Corps is soliciting comments concerning the revision of data collection regarding the Post Enrollment Data Collection (PEDC) of Job Corps Participants, using post-center surveys of Job Corps graduates and former enrollees (OMB Control Number 1205-0426). The current OMB approval expires December 31, 2018.

This Federal Register Notice helps ensure that requested data can be provided in the desired format, reporting burden (time and financial resources) is minimized, collection instruments are clearly understood, and the impact of collection requirements on respondents can be properly assessed.

A copy of the proposed Information Collection Request (ICR) can be obtained by contacting the office listed below in the addresses section of this notice.

DATES: Written comments must be submitted to the office listed in the addresses section below on or before May 2, 2016.

ADDRESSES: Comments submitted in response to this notice should be submitted electronically through the Federal eRulemaking Portal at http://www.regulations.gov by selecting Docket ID number ETA-2016-0001 or via postal mail, commercial delivery, or hand delivery. A copy of the proposed ICR with applicable supporting documentation, including a description of the likely respondents, proposed frequency of response, and estimated total burden may be obtained free of charge from http://www.regulations.gov or by contacting Lawrence Lyford by telephone at 202-693-3121(this is not a toll-free number) or by email at lyford.lawrence@dol.gov. Individuals with hearing or speech impairments may access the telephone number above via TTY by calling the toll-free Federal Information Relay Service at 877-889-5627 (TTY/TDD). Fax: 202-693-3113.

Mail and hand delivery/courier: Send written comments to Lawrence Lyford, Office of Job Corps, Room N-4507, Employment and Training Administration, U.S. Department of Labor, 200 Constitution Avenue NW., Washington, DC 20210. Due to security-related concerns, there may be a significant delay in the receipt of submissions by United States mail. You must take this into consideration when preparing to meet the deadline for submitting comments.

Comments submitted in response to this comment request will become a matter of public record and will be summarized and included in the request for Office of Management and Budget (OMB) approval of the information collection request. In addition, comments, regardless of the delivery method, will be posted without change on the http://www.regulations.gov Web site; consequently, the Department recommends comments not include personal information such as social security number, personal address, telephone number, email address, or confidential business information that they do not want made public. It is the responsibility of the commenter to determine what to include in the public record.

SUPPLEMENTARY INFORMATION:

I. Background

Job Corps is an intensive, residential training program for at-risk youth ages 16 through 24. It addresses multiple barriers to employment faced by youth throughout the United States. Job Corps has been operating under the authorization of the Workforce Investment Act, which is now being replaced by Title I, Subtitle C, of the Workforce Innovation Opportunity Act (WIOA). The WIOA, in Section 116, amends the performance accountability system to replace the current indicators of performance for Job Corps centers and programs with the same primary indicators of performance that are applicable to the youth formula programs.

The program is principally carried out through a nationwide network of 126 Job Corps centers. The centers are located at facilities either owned or leased by the federal government. The Department has a direct role in the operation of Job Corps, and does not serve as a pass-through agency for this program. It is the Department's responsibility to establish Job Corps centers and to select operators for them. Of the 126 current centers, 27 are operated by the United States Department of Agriculture, through an interagency agreement. The remaining 99 centers are managed and operated by large and small corporations, and nonprofit organizations selected by the Department in accordance with the Federal Acquisition Regulations, and in most cases, through a competitive procurement process. Many of the current contractors manage and operate more than one center.

II. Review Focus

The Department is particularly interested in comments which:

• Evaluate whether the proposed collection of information is necessary for an agency to properly perform its functions, including whether the information will have practical utility;

• evaluate the agency's accuracy in estimating the burden of the proposed collection of information, including the validity of the methodology and assumptions used;

• enhance the quality, utility, and clarity of the information to be collected; and

• minimize the burden of information collection on those who respond—including information obtained through appropriate automated, electronic, mechanical, or other technological collection techniques or other forms of information technology (e.g., permitting electronic submissions of responses).

III. Current Actions

This submission requests comments on the data collection instruments that will be used to collect post-enrollment data about individuals who are no longer actively participating in Job Corps. These individuals either graduated from Job Corps, or demonstrated their commitment by either completing the Career Preparation Period (CPP) or participating in the program for at least 60 days (former enrollees).

The data collection instrument for graduates and former enrollees is called the Post Enrollment Data Collection System (PEDCS). Administration of the PEDCS will facilitate the key data collection of post enrollment outcomes during the second and fourth quarters after exit. This submission also requests approval for two brief questionnaires (one for employers and one for schools or training institutions) that will be used to collect verification data about initial placement and effectiveness in serving employers.

The current post-enrollment survey system contacts Job Corps graduates and former enrollees at 13 weeks after initial job placement, and graduates at 6 and 12 months after initial placement. In adherence to the new WIOA requirements, the proposed PEDCS will collect post-enrollment outcomes from Job Corps graduates and former enrollees at the 2nd quarter and 4th quarter following exit. Job Corps will use the information collected through the proposed PEDCS to report the following five of the six primary WIOA performance metrics from Section 116:

• The percentage of program participants who are in unsubsidized employment during the second quarter after exit from the program;

• the percentage of program participants who are in unsubsidized employment during the fourth quarter after exit from the program;

• the median earnings of program participants who are in unsubsidized employment during the second quarter after exit from the program;

• the percentage of program participants who obtain a recognized postsecondary credential, or a secondary school diploma or its recognized equivalent (and, for those with a secondary school diploma or its recognized equivalent, have obtained or retained employment or are in an education or training program leading to a recognized postsecondary credential), during participation in or within one year after exit from the program; and

• the indicator(s) of effectiveness in serving employers.

Job Corps will also use the information collected from the proposed PEDCS to cover the following additional reporting requirements mandated by WIOA:

• The number of graduates who entered the Armed Forces;

• the number of graduates who entered apprenticeship programs;

• the number of graduates who received a regular secondary school diploma;

• the number of graduates who received a State recognized equivalent of a secondary school diploma;

• the number of graduates who entered unsubsidized employment related to the career and technical education and training received through the Job Corps program;

• the number of graduates who entered unsubsidized employment not related to the education and training received;

• the percentage and number of graduates who enter postsecondary education;

• the average wage of graduates who enter unsubsidized employment—

(1) on the first day of such employment; and

(2) on the day 6 months after such first day.

To maximize the comparability of the data collected from the different subgroups of students, the second and fourth quarter data collection instrument will use modules with identical sets of questions on the same topics.

Type of Review: Revision with changes.

Title: Post Enrollment Data Collection of Job Corps Participants.

OMB Number: 1205-0426.

Affected Public: Individuals or households and for profit Business/Education institutions.

Total Annual Burden Cost for Respondents: N/A.

Data collection activity | Number of respondents | Frequency | Total responses | Average time per response (hours) | Burden hours
Online survey of Former Enrollees and Graduates during the second and fourth quarter after exit | 14,000 | 2 | 28,000 | 0.20 | 5,600
Telephone interview of Former Enrollees and Graduates during the second and fourth quarter after exit | 30,200 | 2 | 60,400 | 0.25 | 15,100
Employer/Institution Re-verification | 5,000 | 1 | 5,000 | 0.20 | 1,000
Total | 49,200 |  | 93,400 |  | 21,700

Comments submitted in response to this comment request will be summarized and/or included in the request for Office of Management and Budget approval of the ICR. They will also become a matter of public record.

Portia Wu,
Assistant Secretary for Employment and Training, Labor.

[FR Doc. 2016-04384 Filed 2-29-16; 8:45 am]

BILLING CODE 4510-FT-P